DEPARTMENT OF COMMERCE

Economic Development Administration

Notice of Petitions by Firms for Determination of Eligibility To Apply for Trade Adjustment Assistance

AGENCY: Economic Development Administration, U.S. Department of Commerce.

ACTION: Notice and opportunity for public comment.

SUMMARY: The Economic Development Administration (EDA) has received petitions for certification of eligibility to apply for Trade Adjustment Assistance from the firms listed below. Accordingly, EDA has initiated investigations to determine whether increased imports into the United States of articles like or directly competitive with those produced by each of the firms contributed importantly to the total or partial separation of the firms' workers, or threat thereof, and to a decrease in sales or production of each petitioning firm.

SUPPLEMENTARY INFORMATION:

List of Petitions Received by EDA For Certification of Eligibility To Apply for Trade Adjustment Assistance
[01/31/2018 through 02/14/2018]
Firm name | Firm address | Date accepted for investigation | Product(s)
FILE-EZ Folder, Inc | 4111 East Mission Avenue, Spokane, WA 99202 | 1/31/2018 | The firm manufactures paperboard folders and report covers.
Marion Mixers, Inc., d/b/a Marion Process Solutions | 3575 3rd Avenue, Marion, IA 52302 | 2/6/2018 | The firm manufactures horizontal mixing and blending equipment, heating and drying equipment, coloring equipment, and process control equipment.
E-Z Ink, Inc | 140 58th Street, Building B, Unit 4E, Brooklyn, NY 11220 | 2/12/2018 | The firm recycles and remanufactures printer ink and toner cartridges.
Unimar, Inc | 3195 Vickery Road, Syracuse, NY 13212 | 2/14/2018 | The firm manufactures lighting and control systems for aviation obstructions and industrial uses.

Any party having a substantial interest in these proceedings may request a public hearing on the matter. A written request for a hearing must be submitted to the Trade Adjustment Assistance Division, Room 71030, Economic Development Administration, U.S. Department of Commerce, Washington, DC 20230, no later than ten (10) calendar days following publication of this notice. These petitions are received pursuant to section 251 of the Trade Act of 1974, as amended.

Please follow the requirements set forth in EDA's regulations at 13 CFR 315.9 for procedures to request a public hearing. The Catalog of Federal Domestic Assistance official number and title for the program under which these petitions are submitted is 11.313, Trade Adjustment Assistance for Firms.

Irette Patterson,
Program Analyst.

[FR Doc. 2018-03781 Filed 2-23-18; 8:45 am]

BILLING CODE 3510-WH-P